CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed. Individuals who use a telecommunications device for the deaf (TTY-TDD) may call (202) 565-2799 between 8:30 a.m. and 5 p.m. eastern time, Monday through Friday.

Currently, the Corporation is soliciting comments concerning an Information Collection Request (ICR) entitled AmeriCorps State and National Application and Reporting Instructions for Recovery Act Funding. Applicants will respond to the questions included in this ICR in order to apply for grant funds and report on progress.

Copies of the information collection request can be obtained by contacting the office listed in the addresses section of this notice.

DATES: Written comments must be submitted to the individual and office listed in the ADDRESSES section by June 1, 2009.

ADDRESSES: You may submit comments, identified by the title of the information collection activity, by any of the following methods:

(1) By mail sent to: Corporation for National and Community Service, Attention: Amy Borgstrom, Associate Director for Policy, Room 9515, 1201 New York Avenue, NW., Washington, DC 20525.

(2) By hand delivery or by courier to the Corporation's mailroom at Room 8100 at the mail address given in paragraph (1) above, between 9 a.m. and 4 p.m. Monday through Friday, except Federal holidays.

(3) By fax to: (202) 606-3476, Attention: Amy Borgstrom, Associate Director for Policy.

(4) Electronically through the Corporation's e-mail address system: aborgstrom@cns.gov.

FOR FURTHER INFORMATION CONTACT: Amy Borgstrom, (202) 606-6930, or by e-mail at aborgstrom@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The purpose of this guidance is to assist current AmeriCorps State and National grantees in accessing American Recovery and Reinvestment Act funds to engage AmeriCorps members and community volunteers in efforts to stimulate the economy through the expansion of current programming or the addition of a new program component, and to report on their activities.

Additional information can be found in OMB's Initial Implementing Guidance for the American Recovery and Reinvestment Act of 2009 dated February 18, 2009, and on the CNCS Recovery Web page (http://www.nationalservice.gov/recovery).

Current Action

Type of Review: Renewal; previously granted emergency approval by OMB on March 19, 2009.

Agency: Corporation for National and Community Service.

Title: AmeriCorps State and National Recovery Act Funding Application and Reporting Instructions.

OMB Number: 3045-0132.

Affected Public: Nonprofit organizations, State, Local and Tribal.

Total Respondents: 250.

Frequency: Once for application and quarterly for one year for reports.

Average Time per Response: 8 hours.

Estimated Total Burden Hours: 10,000 hours.

Total Burden Cost (capital/startup): None.

Total Burden Cost (operating/maintenance): None.

Comments submitted in response to this notice will be summarized and/or included in the request for Office of Management and Budget approval of the information collection request; they will also become a matter of public record.

Dated: March 26, 2009.
Lois Nembhard,
Acting Director, AmeriCorps State and National.

[FR Doc. E9-7307 Filed 3-31-09; 8:45 am]

BILLING CODE 6050-$$-P